DEPARTMENT OF ENERGY

Federal Energy Regulatory Commission

Combined Notice of Filings

Take notice that the Commission has received the following Natural Gas Pipeline Rate and Refund Report filings:

Filings Instituting Proceedings

Docket Numbers: RP17-163-000.

Applicants: Equitrans, L.P.

Description: Compliance filing Notice Regarding Non-Jurisdictional Gathering Facilities (Ryerson CS).

Filed Date: 11/8/16.

Accession Number: 20161108-5029.

Comments Due: 5 p.m. ET 11/21/16.

Docket Numbers: RP17-164-000.

Applicants: WBI Energy Transmission, Inc.

Description: § 4(d) Rate Filing: 2016 Reservation Charge Credits to be effective 12/9/2016.

Filed Date: 11/8/16.

Accession Number: 20161108-5085.

Comments Due: 5 p.m. ET 11/21/16.

Docket Numbers: RP17-165-000.

Applicants: Osprey Energy Center, LLC, Duke Energy Florida, LLC.

Description: Joint Petition for Limited Waiver of Osprey Energy Center, LLC and Duke Energy Florida, LLC.

Filed Date: 11/8/16.

Accession Number: 20161108-5107.

Comments Due: 5 p.m. ET 11/21/16.

Docket Numbers: RP17-166-000.

Applicants: Colorado Interstate Gas Company, L.L.C.

Description: Compliance filing Settlement Implementation Compliance Filing to be effective 1/1/2017.

Filed Date: 11/9/16.

Accession Number: 20161109-5093.

Comments Due: 5 p.m. ET 11/21/16.

Docket Numbers: RP17-167-000.

Applicants: El Paso Natural Gas Company, L.L.C.

Description: § 4(d) Rate Filing: Negotiated Rate Agreement Filing (Mexicana de Cobre Nov 2016) to be effective 11/11/2016.

Filed Date: 11/9/16.

Accession Number: 20161109-5132.

Comments Due: 5 p.m. ET 11/21/16.

Docket Numbers: RP17-168-000.

Applicants: Panhandle Eastern Pipe Line Company, LP.

Description: § 4(d) Rate Filing: Revision to Rate Schedule GPS to be effective 12/11/2016.

Filed Date: 11/10/16.

Accession Number: 20161110-5036.

Comments Due: 5 p.m. ET 11/22/16.

Docket Numbers: RP17-169-000.

Applicants: Natural Gas Pipeline Company of America.

Description: § 4(d) Rate Filing: City of Pickneyville to be effective 12/1/2016.

Filed Date: 11/10/16.

Accession Number: 20161110-5134.

Comments Due: 5 p.m. ET 11/22/16.

Docket Numbers: RP17-170-000.

Applicants: Natural Gas Pipeline Company of America.

Description: § 4(d) Rate Filing: City of Perryville, MO to be effective 12/1/2016.

Filed Date: 11/10/16.

Accession Number: 20161110-5138.

Comments Due: 5 p.m. ET 11/22/16.

Docket Numbers: RP17-171-000.

Applicants: Iroquois Gas Transmission System, L.P.

Description: § 4(d) Rate Filing: 11/10/16 Negotiated Rates—Con Edison Energy Inc. (RTS) Correction 10/18/16 to be effective 11/1/2016.

Filed Date: 11/10/16.

Accession Number: 20161110-5179.

Comments Due: 5 p.m. ET 11/22/16.

Docket Numbers: RP17-172-000.

Applicants: Algonquin Gas Transmission, LLC.

Description: § 4(d) Rate Filing: AIM W. Roxbury Lat—Boston Gas Non-Conforming contract 510807 to be effective 12/1/2016.

Filed Date: 11/14/16.

Accession Number: 20161114-5003.

Comments Due: 5 p.m. ET 11/28/16.

Docket Numbers: RP17-173-000.

Applicants: Equitrans, L.P.

Description: § 4(d) Rate Filing: Bump Policy Clarification to be effective 12/15/2016.

Filed Date: 11/14/16.

Accession Number: 20161114-5060.

Comments Due: 5 p.m. ET 11/28/16.

Docket Numbers: RP17-174-000.

Applicants: Viking Gas Transmission Company.

Description: § 4(d) Rate Filing: Update Non-Conforming and Negotiated Rate Agreements—Nov. 2016 to be effective 11/15/2016.

Filed Date: 11/14/16.

Accession Number: 20161114-5118.

Comments Due: 5 p.m. ET 11/28/16.

Docket Numbers: RP17-175-000.

Applicants: Guardian Pipeline, L.L.C.

Description: § 4(d) Rate Filing: Revised Negotiated Rate PAL Agreements—Wisconsin Electric Power Company to be effective 11/15/2016.

Filed Date: 11/14/16.

Accession Number: 20161114-5120.

Comments Due: 5 p.m. ET 11/28/16.

Docket Numbers: RP17-176-000.

Applicants: CenterPoint Energy Services, Inc., Atmos Energy Marketing LLC.

Description: Joint Petition for Temporary Waiver and Request for Expedited Action and a Shortened Notice Period of CenterPoint Energy Services, Inc., et. al.

Filed Date: 11/10/16.

Accession Number: 20161110-5223.

Comments Due: 5 p.m. ET 11/17/16.

Docket Numbers: RP17-177-000.

Applicants: Kern River Gas Transmission Company.

Description: § 4(d) Rate Filing: 2017 Non-Leap Year Rates to be effective1/1/2017.

Filed Date: 11/14/16.

Accession Number: 20161114-5276.

Comments Due: 5 p.m. ET 11/28/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-1057-001.

Applicants: MoGas Pipeline LLC.

Description: Compliance filing MoGas Compliance Filing to be effective 4/1/2016.

Filed Date: 11/9/16.

Accession Number: 20161109-5044.

Comments Due: 5 p.m. ET 11/21/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated November 15, 2016.
Nathaniel J. Davis, Sr.,
Deputy Secretary.

[FR Doc. 2016-28080 Filed 11-21-16; 8:45 am]

BILLING CODE 6717-01-P